INTER-AMERICAN FOUNDATION

22 CFR Parts 1002 and 1005

Change of Address and Other Agency Contact Information; Technical Amendments

AGENCY: Inter-American Foundation.

ACTION: Final rule; technical amendments.

SUMMARY: The Inter-American Foundation (IAF) is amending its regulations to reflect a change in the agency's address, as well as in the contact office for requesting access to agency records and the hours during which staff may be reached. This action is editorial in nature and is intended to increase the accuracy of the IAFs regulations.

DATES: Effective Date: October 30, 2006.

FOR FURTHER INFORMATION CONTACT: Rebecca Verreau, Office of the General Counsel, Inter-American Foundation, 901 N. Stuart St., 10th Floor, Arlington, VA 22203, rverreau@iaf.gov or 703-306-4301.

SUPPLEMENTARY INFORMATION:

I. Background

The IAF is amending its regulations to reflect a change in the agencys address. The amendments also reflect changes in the contact office for requesting access to agency records from the Administration and Finance Division to the Office of the General Counsel and an increase in the hours of availability of IAF staff to respond to such requests. Publication of this document constitutes final action on these changes under the Administrative Procedure Act (5 U.S.C. 553). Notice and public procedures are unnecessary because the IAF is correcting nonsubstantive errors only.

II. Rulemaking Analyses and Notices

Because the amendments made by this document relate to management, organization, and practice, prior notice and opportunity for comment are unnecessary under 5 U.S.C. 553(b)(3)(A). In addition, prior notice and opportunity for comment are unnecessary pursuant to 5 U.S.C. 553(b)(3)(B) because the process of amending and updating the sections is merely technical in nature and proposes no substantive changes to which public comment could be solicited.

This final rule is made effective upon publication in the Federal Register. The IAF finds that good cause exists for this final rule to be exempt from the 30-day delayed effective date requirement of 5 U.S.C. 553(d) because a delay in effective date is unnecessary and would not be in the public interest.

List of Subjects

22 CFR Part 1002

Administrative practice and procedure, Availability of agency records.

22 CFR Part 1005

Administrative practice and procedure, Prohibition of discrimination against persons with disabilities in IAF programs and activities.

Therefore, the IAF amends 22 CFR parts 1002 and 1005 as set forth below:

PART 1002—AVAILABILITY OF RECORDS

1. The authority citation for part 1002 continues to read as follows:

Authority: 5 U.S.C. 552, and 31 U.S.C. 483(a).

§ 1002.3 [Amended]

2. Section 1002.3 is amended by:

A. Removing “10 a.m. and 4 p.m.” and adding in its place “9 a.m. and 5 p.m.”

B. By removing “1515 Wilson Boulevard, Arlington, VA 22209” and adding in its place “901 N. Stuart St., 10th Floor, Arlington, VA 22203”.

C. By removing “Director, Administration and Finance Division (A&F Director)” and adding in its place “General Counsel, Office of the General Counsel (General Counsel's Office)”.

D. By removing “Office of A&F” and adding in its place “General Counsel's Office”.

§ 1002.4 [Amended]

3. Section 1002.4 is amended in paragraph (a) by removing “Director, Administration & Finance Division, Inter-American Foundation, Fifth Floor, 1515 Wilson Boulevard, Arlington, VA 22209” and adding in its place “General Counsel, Inter-American Foundation, 901 N. Stuart St., 10th Floor, Arlington, VA 22203”.

§ 1002.5 [Amended]

4. Section 1002.5 introductory text is amended by removing “Administration and Finance Division” and adding in its place “General Counsel's Office”.

§ 1002.7 [Amended]

5. Section 1002.7 is amended in paragraph (a) by removing “A&F Director” and adding in its place “General Counsel”.

PART 1005—ENFORCEMENT OF NONDISCRIMINATION ON THE BASIS OF HANDICAP IN PROGRAMS OR ACTIVITIES CONDUCTED BY THE INTER-AMERICAN FOUNDATION

6. The authority citation for part 1005 continues to read as follows:

Authority: 29 U.S.C. 794.

§ 1005.170 [Amended]

7. Section 1005.170(c) is amended by removing “1515 Wilson Boulevard, Rosslyn, Virginia 22209” and adding in its place “901 N. Stuart St., 10th Floor, Arlington, VA 22203”.

Dated: October 13, 2006.
Jennifer R. Hodges,
General Counsel.

[FR Doc. E6-18074 Filed 10-27-06; 8:45 am]

BILLING CODE 7025-01-P